DEPARTMENT OF HEALTH AND HUMAN SERVICES

National Institutes of Health

Center for Scientific Review; Amended Notice of Meeting

Notice is hereby given of a change in the meeting of the Center for Scientific Review Special Emphasis Panel, RFA-RM-19-008: NIH Director's Early Independence Award Review, March 18, 2020, 08:30 a.m. to March 19, 2020, 12:00 p.m. which was published in the Federal Register on February 20, 2020, 85 FR 9787.

The meeting location is being changed to National Institutes of Health, 6701 Rockledge Drive, Bethesda, MD 20892, meeting start time is changing to 09:00 a.m. and meeting end time to 03:00 p.m. The meeting is closed to the public.

Dated: March 5, 2020.
Miguelina Perez,
Program Analyst, Office of Federal Advisory Committee Policy.

[FR Doc. 2020-04929 Filed 3-10-20; 8:45 am]

BILLING CODE 4140-01-P